NUCLEAR REGULATORY COMMISSION

[NRC-2010-0278]

NUREG-1482, Revision 2, “Guidelines for Inservice Testing at Nuclear Power Plants, Draft Report for Comment”

AGENCY: Nuclear Regulatory Commission.

ACTION: Announcement of issuance for public comment, availability.

SUMMARY: The U.S. Nuclear Regulatory Commission (NRC) has issued for public comment a document entitled: NUREG-1482, Revision 2, “Guidelines for Inservice Testing at Nuclear Power Plants, Draft Report for Comment,” and subtitled “Inservice Testing of Pumps and Valves, and Inservice Examination and Testing of Dynamic Restraints (Snubbers) at Nuclear Power Plants”.

(Note that this document was submitted previously for public comments as draft NUREG-1946. Based on public comments, draft NUREG-1482 is being updated as Revision 2 and is being issued to incorporate all comments received for draft report NUREG-1946).

DATES: Please submit comments by December 20, 2011. Comments received after this date will be considered if it is practical to do so, but the NRC staff is able to ensure consideration only for comments received on or before this date.

ADDRESSES: Please include Docket ID NRC-2010-0278 in the subject line of your comments. For additional instructions on submitting comments and instructions on accessing documents related to this action, see “Submitting Comments and Accessing Information” in the SUPPLEMENTARY INFORMATION section of this document. You may submit comments by any one of the following methods:

• Federal Rulemaking Web Site: Go to http://www.regulations.gov and search for documents filed under Docket ID NRC-2010-0278. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The NUREG-1482, Revision 2, “Guidelines for Inservice Testing at Nuclear Power Plants, Draft Report for Comment,” and subtitled “Inservice Testing of Pumps and Valves, and Inservice Examination and Testing of Dynamic Restraints (Snubbers) at Nuclear Power Plants” is available electronically under ADAMS Accession Number ML112231412.

• Federal Rulemaking Web Site: Public comments and supporting materials related to this notice can be found at http://www.regulations.gov by searching on Docket ID NRC-2010-0278.

FOR FURTHER INFORMATION CONTACT: Gurjendra S. Bedi, Division of Component Integrity, Office of Nuclear Reactor Regulation, U.S. Nuclear Regulatory Commission, Washington, DC 20555-0001, telephone: 301-415-1393, e-mail: Gurjendra.Bedi@nrc.gov.

NUREG-1482, Revision 2, “Guidelines for Inservice Testing at Nuclear Power Plants, Draft Report for Comment” provides updated information on applicable regulations for testing of pumps and valves, and inservice examination and testing of snubbers. The information in NUREG-1482, “Guidelines for Inservice Testing at Nuclear Plants,” Revision 0, issued April 1995, and Revision 1, issued January 2005, has described these topics in the past.

This NUREG report replaces Revision 0 and Revision 1 of NUREG-1482, and is applicable, unless stated otherwise, to all editions and addenda of the American Society of Mechanical Engineers (ASME) Code of Operation and Maintenance of Nuclear Power Plants (OM Code), which Title 10 of the Code of Federal Regulations (10 CFR) 50.55a(b) incorporates by reference (76 FR 36232-36279), dated June 21, 2011. Note that the draft NUREG-1482, Revision 2, is a substantial re-write from issuance of draft NUREG-1946 (ADAMS Accession Number: ML102100236). This draft NUREG-1482, Revision 2, incorporates all the public comments received for draft NUREG-1946, because based on public comments, NUREG-1482, Revision 1, is revised and updated instead of issuing the new NUREG-1946. The NRC staff evaluation and resolution of public comments for draft NUREG-1946, including Inservice Testing Owner Group comments, are documented in ADAMS Accession Number: ML112092872. Most of the draft NUREG-1946 included in the main text of draft NUREG-1482, Revision 2, Appendix A, to this NUREG-1482, Revision 2, contains guidance provided in Revision 1 to NUREG-1482 for pumps and valves that has been updated for the development of inservice testing programs at nuclear power plants. Appendix B to this NUREG contains guidance related to inservice examination and testing of dynamic restraints (snubbers), which is included for the first time in the draft NUREG-1482, Revision 2.

The guidelines and recommendations provided in this NUREG and its Appendices A and B do not supersede the regulatory requirements specified in 10 CFR 50.55a. Further, this NUREG does not authorize the use of alternatives to, or grant relief from, the ASME Code requirements for inservice testing of pumps and valves, or inservice examination and testing of dynamic restraints (snubbers), incorporated by reference in 10 CFR 50.55a. In addition, the NUREG discusses other inservice test program topics such as the NRC process for review of the OM Code, conditions on the use of the OM Code, and interpretations of the OM Code.

Dated at Rockville, Maryland, this 11th day of August 2011.
For the Nuclear Regulatory Commission.
Anthony C. McMurtray,
Chief, Component Performance and Testing Branch, Division of Component Integrity, Office of Nuclear Reactor Regulation.

[FR Doc. 2011-21357 Filed 8-19-11; 8:45 am]

BILLING CODE 7590-01-P